FEDERAL ELECTION COMMISSION

Sunshine Act Notice

AGENCY: Federal Election Commission.

Federal Register Citation of Previous Announcement—78 FR 97 (January 2, 2013).

Date & Time: Tuesday, January 8, 2013 at 10:00 a.m.

Place: 999 E Street NW., Washington, DC

Status: This meeting will be closed to the public.

Changes in the Meeting—The January 8, 2013 meeting will be continued on Thursday, January 10, 2013.

Person To Contact For Information: Judith Ingram, Press Officer, Telephone: (202) 694-1220.

Shelley E. Garr,
Deputy Secretary of the Commission.

[FR Doc. 2013-00290 Filed 1-7-13; 11:15 am]

BILLING CODE 6715-01-P